DEPARTMENT OF LABOR

Office of the Secretary

Submission for OMB Review: Comment Request

June 14, 2004.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Survivor's Form for Benefits.

OMB Number: 1215-0069.

Frequency: One-time.

Type of Response: Reporting.

Affected Public: Individuals or households.

Number of Respondents: 2,800.

Annual Responses: 2,800.

Average Response Time: 8 minutes.

Total Annual Burden Hours: 373.

Total Annualized capital/startup costs: $0.

Total Annual Costs (operating/maintaining systems or purchasing services): $800.

Description: This collection of information is required to administer the benefit payment provisions of the Black Lung Act for survivors of deceased miners. Form CM-912 is authorized for use by the Black Lung Benefits Act 30 U.S.C. 901, et seq., 20 CFR 410.221 and CFR 725.304. Completion of Form CM-912 constitutes the application for benefits by survivors and assists in determining the survivor's entitlement to benefits.

Agency: Employment Standards Administration.

Type of Review: Extension of currently approved collection.

Title: Notice of Law Enforcement Officer's Injury or Occupational Disease (CA-721); Notice of Law Enforcement Officer's Death (CA-722).

OMB Number: 1215-0116.

Frequency: On occasion.

Type of Response: Reporting.

Affected Public: Individuals or households; Business or other for-profit; and State, local, or tribal government.

Number of Respondents: 23.

Form | Annual responses | Average response time (hours) | Annual burden hours
CA-721 | 8 | 60 | 8
CA-722 | 15 | 90 | 23
Total | 23 |  | 31

Total Annualized capital/startup costs: $0.

Total Annual Costs (operating/maintaining systems or purchasing services): $9.

Description: The Notice of Law Enforcement Officer's Injury or Occupational Disease (CA-721) and the Notice of Law Enforcement Officer's Death (CA-722) are the forms used by non-Federal law enforcement officers and their survivors to claim compensation under the Federal Employees' Compensation Act. The associated regulations are at 20 CFR 10.735.

Agency: Employment Standards Administration.

Type of Review: Extension of currently approved collection.

Title: 29 CFR Part 575—Waiver of Child Labor Provisions for Agricultural Employment of 10 and 11 Year Old Minors in Hand Harvesting of Short Season Crops.

OMB Number: 1215-0120.

Frequency: On occasion.

Type of Response: Reporting and Recordkeeping.

Affected Public: Individuals or households and Farms.

Number of Respondents: 1.

Annual Responses: 1.

Average Response Time: 4 hours.

Total Annual Burden Hours: 4.

Total Annualized capital/startup costs: $0.

Total Annual Costs (operating/maintaining systems or purchasing services): $0.

Description: Background: Section 13(c)(4) of the Fair Labor Standards Act (FLSA), 29 U.S.C. 201 et seq., authorizes the Secretary of Labor to grant a waiver of child labor provisions of the FLSA for the agricultural employment of 10 and 11 year old minors in the hand harvesting of short season crops if specific requirements and conditions are met. The Act requires that all employers who are granted such waivers keep on file a signed statement of the parent or person standing in the place of the parent of each 10 and 11 year old minor, consenting to their employment, along with a record of the name and address of the school in which the minor is enrolled.

Darrin A. King,
Acting Departmental Clearance Officer.

[FR Doc. 04-13754 Filed 6-17-04; 8:45 am]

BILLING CODE 4510-23-P